DEPARTMENT OF HEALTH AND HUMAN SERVICES

Centers for Disease Control and Prevention

[Program Announcement 02033]

Improving Effectiveness of Tuberculosis Prevention and Control in Lithuania; Notice of Award

A. Purpose

The Centers for Disease Control and Prevention (CDC) announces the availability of $105,000 in fiscal year (FY) 2002 funds for a Cooperative Agreement to provide education and technical assistance to improve the quality, efficiency, and effectiveness of programs for the prevention and control of tuberculosis (TB) with the National Tuberculosis Control Program (NTP), Ministry of Health of the Government of Lithuania. The award is anticipated to begin in May 2002, with a 12-month budget period within a five-year project period. This program addresses the “Healthy People 2010” priority areas of Immunization and Infectious Diseases.

The National Tuberculosis Control Program (NTP), Ministry of Health of the Government of Lithuania is the most appropriate and qualified agency to conduct the activities under this Cooperative Agreement because:

1. The NTP is uniquely positioned, in terms of legal authority, ability, track record, and credibility in Lithuania to develop and implement TB control activities in both public sites throughout the country.

2. The NTP is currently involved in TB treatment services in Lithuania, enabling it to immediately become engaged in the activities listed in this announcement.

3. The purpose of the announcement is to utilize and build upon the existing framework of TB control activities that the NTP has developed or initiated.

4. The NTP has been mandated by the Ministry of Health in Lithuania to coordinate and implement TB treatment and control activities including Multi-Drug Resistant Tuberculosis (MDR-TB) within the country.

The purpose of this Cooperative Agreement is to assist the recipient in conducting an anti-tuberculosis drug resistance survey in Lithuania based on WHO/IUATLD Global Project on Anti-Tuberculosis Drug Resistance Surveillance protocols (“The Global Project”).

B. Where To Obtain Additional Information

To obtain business management technical assistance, contact: Dorimar Rosado, Lead Grants Management Specialist. International Grants & Contracts Branch, Procurement and Grants Office, Centers for Disease Control and Prevention, 2920 Brandywine Road, MS E-09, Atlanta, GA 30341-4146, Telephone number: (770) 488-2782, FAX: (770) 488-2866, Email address: dpr7@cdc.gov.

For program technical assistance, contact: Charles Wells, Email address ccw2@cdc.gov, Puneet Dewan, Email address phd8@cdc.gov, Michael Qualls, Email address muq1@cdc.gov, National Center for HIV/STD/STD and TB Prevention, Division of Tuberculosis Elimination, 1600 Clifton Road, MS E-10, Atlanta, GA 30333, Telephone: (404) 639-8120, Fax: (404) 639-8961.

Dated: May 15, 2002.
Sandra R. Manning, CGFM,
Director, Procurement and Grants Office, Centers for Disease Control and Prevention (CDC).

[FR Doc. 02-12648 Filed 5-20-02; 8:45 am]

BILLING CODE 4163-18-P